DEPARTMENT OF THE INTERIOR

Bureau of Indian Affairs

Submission of Information Collection to the Office of Management and Budget (OMB) for Review Under the Paperwork Reduction Act

AGENCY: Bureau of Indian Affairs, Interior.

ACTION: Notice.

SUMMARY: As required by the Paperwork Reduction Act of 1995, this notice announces that the Information Collection Request for the Payment for Appointed Counsel in Involuntary Indian Child Custody Proceedings in State courts has been submitted to the Office of Management and Budget for review and renewal. This information collection is cleared under OMB Control Number 1076-0111.

DATES: Written comments must be submitted on or before November 17, 2003.

ADDRESSES: Comments should be submitted to the Desk Officer for the Department of the Interior, Office of Management and Budget, either by facsimile at (202) 395-6566 or you may send an e-mail to: OIRA_DOCKET@omb.eop.gov

Please send a copy of your comments to Larry Blair, Office of Tribal Services, Bureau of Indian Affairs, 1951 Constitution Avenue, NW., MS-320-SIB, Washington, DC 20240.

FOR FURTHER INFORMATION CONTACT: Larry Blair (202) 513-7621.

SUPPLEMENTARY INFORMATION:

I. Abstract

A State court that appoints counsel for an indigent Indian parent or Indian custodian in an involuntary Indian child custody proceeding in a State court may send written notice to the Bureau of Indian Affairs (Bureau) when appointment of counsel is not authorized by State law. The cognizant Bureau Regional Director uses this information to decide whether to certify that the client in the notice is eligible to have his counsel compensated by the Bureau in accordance with the Indian Child Welfare Act, Public Law 95-608.

On June 9, 2003, the Department of the Interior published a notice in the Federal Register (68 FR 34413) requesting public comments on the proposed information collection. The comment period ended August 8, 2003. No comments were received.

II. Method of Collection

The following information is collected from State courts in order to certify payment of appointed counsel in involuntary Indian child custody proceedings. The information collection is submitted to obtain or retain a benefit; i.e., payment for appointed counsel. The reasons for the collection are listed in the following table:

Information collected | Reason for collection
(a) Name, address and telephone number of attorney appointed | (a) To identify attorney appointed as counsel and method of contact.
(b) Name and address of client for whom counsel is appointed | (b) To identify indigent party in an Indian child custody proceeding for whom counsel is appointed.
(c) Applicant's relationship to child | (c) To determine if the person is eligible for payment of attorney fees as specified in Public Law 95-608.
(d) Name of Indian child's tribe | (d) To determine if the child is a member of a federally recognized tribe and is covered by the Indian Child Welfare Act (ICWA).
(e) Copy of petition or complaint | (e) To determine if this custody proceeding is covered by the ICWA.
(f) Certification by the court that State law does not provide for appointment of counsel in such proceedings | (f) To determine if other State laws provide for such appointment of counsel and to prevent duplication of effort.
(g) Certification by the court that the Indian client is indigent | (g) To determine if the client has resources to pay for counsel.
(h) The amount of payments due counsel utilizing the same procedures used to determine expenses in juvenile delinquency proceedings | (h) To determine if the amount of payment due appointed counsel is based on State court standards in juvenile delinquency proceedings.
(i) Approved vouchers with court certification that the amount requested is reasonable considering the work and the criteria used for determining fees and expenses for juvenile delinquency proceedings | (i) To determine the amount of payment considered reasonable in accordance with State standards for a particular case.

Proposed use of the information: The information collected will be used by the respective Bureau Regional Director to determine:

(a) If an individual Indian involved in an Indian child custody proceeding is eligible for payment of appointed counsel's attorney fees;

(b) If any State statutes provide for coverage of attorney fees under these circumstances;

(c) The State standards for payment of attorney fees in juvenile delinquency proceedings; and,

(d) The name of the attorney, and his actual voucher certified by the court for the work completed on a preapproved case. This information is required for payment of appointed counsel as authorized by Public Law 95-608.

III. Data

(1) Title of the Collection of Information: The Department of the Interior, Bureau of Indian Affairs, Payment for Appointed Counsel in Involuntary Indian Child Custody Proceedings in State Courts, 25 CFR 23.13.

OMB Control Number: 1076-0111.

Type of Review: Extension of a currently-approved collection.

Affected Entities: State courts and individual Indians eligible for payment of attorney fees pursuant to 25 CFR 23.13 in order to obtain a benefit.

Estimated number of respondents: 4.

Proposed frequency of response: 1.

(2) Estimate of total annual reporting and record keeping burden that will result from the collection of this information: 12 hours.

Reporting: 2 hours per response × 4 respondents = 8 hours.

Recordkeeping: 1 hour per response × 4 respondents = 4 hours.

Estimated Total Annual Burden Hours: 12 hours.

Estimated Annual Costs: $540.00 (12 hours × $45.00 per hour).

(3) Description of the need for the information and proposed use of the information: Submission of this information is required in order to receive payment for appointed counsel under 25 CFR 23.13. The information is collected to determine applicant eligibility for services.

IV. Request for Comments

The Department of the Interior invites comment on:

(a) Whether the collection of information is necessary for the proper performance of the functions of the agency, including whether the information will have practical utility;

(b) the accuracy of the agency's estimate of the burden (including hours and cost) of the proposed collection of information, including the validity of the methodology and assumptions used;

(c) ways to enhance the quality, utility, and clarity of the information to be collected; and

(d) ways to minimize the burden of the collection of information on those who are to respond, including through the use of appropriate automated, electronic, mechanical, or other collection techniques or other forms of information technology.

Burden means the total time, effort, or financial resources expended by persons to generate, maintain, retain, disclose or provide information to a federal agency. This includes the time needed to review instructions; to develop, acquire, install and utilize technology and systems for the purpose of collecting, validating, and verifying information, processing and maintaining information, and disclosing and providing information; to train personnel and to be able to respond to a collection of information, to search data sources, to complete and review the collection of information; and to transmit or otherwise disclose the information.

The comments, names and addresses of commenters will be available for public view during regular business hours. If you wish us to withhold this information, you must state this prominently at the beginning of your comment. We will honor your request to the extent allowable by law.

An agency may not conduct or sponsor, and a person is not required to respond to a collection of information unless it displays a currently valid Office of Management and Budget control number.

Dated: September 3, 2003.
Aurene M. Martin,
Acting Assistant Secretary—Indian Affairs.

[FR Doc. 03-26288 Filed 10-16-03; 8:45 am]

BILLING CODE 4310-4J-P